DEPARTMENT OF TRANSPORTATION

Federal Aviation Administration

14 CFR Part 71

[Docket No. FAA-2024-1650; Airspace Docket No. 24-ANE-6]

RIN 2120-AA66

Amendment of Class E Airspace; Claremont, NH

AGENCY: Federal Aviation Administration (FAA), DOT.

ACTION: Final rule; correction.

SUMMARY: A final rule was published in the Federal Register on October 3, 2024, amending Class E airspace extending upward from 700 feet above the surface for Claremont Municipal Airport, Claremont, NH, as the Claremont Non-directional Beacon (NDB) had been decommissioned, and associated instrument approaches canceled. This action corrects the Claremont Municipal Airport coordinates within the airspace description that contained a typographical error.

DATES: Effective 0901 UTC, February 20, 2025. The Director of the Federal Register approves this incorporation by reference action under 1 CFR part 51, subject to the annual revision of FAA Order JO 7400.11 and publication of conforming amendments.

FOR FURTHER INFORMATION CONTACT: Robert Scott Stuart, Operations Support Group, Eastern Service Center, Federal Aviation Administration, 1701 Columbia Ave., College Park, GA 30337; Telephone (404) 305-5926.

SUPPLEMENTARY INFORMATION:

Authority for This Rulemaking

History

The FAA published a final rule in the Federal Register (89 FR 80382, October 3, 2024) for Doc. No. FAA-2024-1650, amending Class E airspace extending upward from 700 feet above the surface within a 7.3-mile radius of the Claremont Municipal Airport and 2 miles on each side of the 093° bearing from the airport, extending from the 7.3-mile radius to 15.1 miles east of the airport. After publication, the FAA found that the coordinates (Lat. 43°22′14″ N, long. 72°22″6 W) for Claremont Municipal Airport contained a typographical error. This action corrects the error by correcting the coordinates (lat. 43°22′14″ N, long. 72°22′06″ W) for Claremont Municipal Airport.

Correction to the Final Rule

Pursuant to the authority delegated to me, the amendment of Class E airspace extending upward from 700 feet above the surface for Claremont Municipal Airport, Claremont, NH, in Docket No. FAA-2024-1650, as published in the Federal Register on October 3, 2024 (89 FR 80382), is corrected as follows:

§ 71.1 [Corrected]

On page 80383, in the first column, replace the Claremont Municipal Airport coordinates (Lat. 43°22′14″ N, long. 72°22″6 W) with the corrected coordinates (lat. 43°22′14″ N, long. 72°22′06″ W).

Issued in College Park, Georgia, on October 28, 2024.
Patrick Young,
Manager, Airspace & Procedures Team North, Eastern Service Center, Air Traffic Organization.

[FR Doc. 2024-25456 Filed 11-1-24; 8:45 am]

BILLING CODE 4910-13-P